SMALL BUSINESS ADMINISTRATION

[Declaration of Disaster #3252]

State of Kansas

As a result of the President's major disaster declaration on May 3, 2000, I find that Crawford, Labette, and Neosho Counties in the State of Kansas constitute a disaster area due to damages caused by severe storms and tornadoes that occurred April 19-20, 2000. Applications for loans for physical damage as a result of this disaster may be filed until the close of business on July 2, 2000, and for loans for economic injury until the close of business on February 5, 2001 at the address listed below or other locally announced locations: U.S. Small Business Administration, Disaster Area 3 Office, 4400 Amon Carter Blvd., Suite 102, Fort Worth, TX 76155.

In addition, applications for economic injury loans from small businesses located in the following contiguous counties may be filed until the specified date at the above location: Allen, Bourbon, Cherokee, Montgomery, Wilson, and Woodson Counties in Kansas; Barton, Jasper, and Vernon Counties in Missouri; and Craig and Nowata Counties in Oklahoma.

The interest rates are:

For Physical Damage

Homeowners with credit available elsewhere: 7.625%

Homeowners without credit available elsewhere: 3.812%

Businesses with credit available elsewhere: 8.000%

Businesses and non-profit organizations without credit available elsewhere: 4.000%

Others (including non-profit organizations) with credit available elsewhere: 6.750%

For Economic Injury

Businesses and small agricultural cooperatives without credit available elsewhere: 4.000%

The number assigned to this disaster for physical damage is 325212. For economic injury the numbers are 9H2200 for Kansas, 9H2300 for Missouri, and 9H2400 for Oklahoma.

Dated: May 8, 2000.
(Catalog of Federal Domestic Assistance Program Nos. 59002 and 59008)
Herbert L. Mitchell,
Acting Associate Administrator for Disaster Assistance.

[FR Doc. 00-12694 Filed 5-19-00; 8:45 am]

BILLING CODE 8025-01-P